ENVIRONMENTAL PROTECTION AGENCY

[EPA-HQ-OW-2021-0869; FRL-10916-01-OMS]

Agency Information Collection Activities; Submission to the Office of Management and Budget for Review and Approval; Comment Request; Chromium Finishing Industry Data Collection (New)

AGENCY: Environmental Protection Agency (EPA).

ACTION: Notice.

SUMMARY: The Environmental Protection Agency (EPA) has submitted an information collection request (ICR), Chrome Finishing Industry Data Collection (EPA ICR Number 2723.01, OMB Control Number 2040-NEW) to the Office of Management and Budget (OMB) for review and approval in accordance with the Paperwork Reduction Act. This is a request for approval of a new collection. Public comments were previously requested via the Federal Register on November 16, 2022 during a 60-day comment period. This notice allows for an additional 30 days for public comments.

DATES: Comments may be submitted on or before May 22, 2023.

ADDRESSES: Submit your comments, referencing Docket ID Number EPA-HQ-OW-2021-0869, to EPA online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Dr. Phillip Flanders, Engineering and Analysis Division, Office of Science and Technology, 4303T, Environmental Protection Agency, 1200 Pennsylvania Ave. NW, Washington, DC 20460; telephone number: 202-566-8323; email address: Flanders.Phillip@epa.gov.

SUPPLEMENTARY INFORMATION: This is a request for approval of a new collection. An agency may not conduct or sponsor and a person is not required to respond to a collection of information unless it displays a currently valid OMB control number.

Public comments were previously requested via the Federal Register on November 16, 2022 during a 60-day comment period (87 FR 68689). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: As mentioned in Effluent Guidelines Program Plan 15, published in January 2023, EPA plans to conduct a rulemaking to address Per- and Polyfluoroalkyl Substances (PFAS) discharges from a subset of facilities in the Metal Finishing and Electroplating point source categories. Specifically, facilities performing certain chromium operations that employ hexavalent chromium (hereafter referred to as “chrome finishing facilities”), including chromium plating, chromium anodizing, chromic acid etching, and chromate conversion coating that use or have used PFAS to control hexavalent chromium emissions. These facilities are expected to be the predominant sources of PFAS discharges in the Metal Finishing and Electroplating point source categories. Publicly available data on such facilities, including whether they perform chrome finishing operations and use and discharge of PFAS at the national scale, are limited. EPA reviewed the 2017 National Emissions Inventory (NEI), Compliance and Emissions Data Reporting Interface (CEDRI), Environmental Compliance History Online (ECHO), and Integrated Compliance Information System (ICIS), as well as data collected by several state environmental agencies. However, none of these data sources provide a complete population of chromium finishing facilities in the United States nor do they provide the detailed information on specific facility operations (including use of hexavalent chromium or PFAS), generation and management of wastewater, or wastewater characteristics necessary for the complex technical and economic analyses required for the review and development of ELGs. Therefore, this questionnaire and wastewater sampling program are necessary for EPA to determine if the current regulations remain appropriate and to develop new regulations if they are deemed to be warranted. EPA has identified and compiled mailing addresses for approximately 2,035 potential chromium finishing facilities in the United States. All active metal finishing and electroplating facilities that conduct or have conducted one or more of the specified chromium finishing operations will be required to complete the questionnaire.

Form numbers: 6100-079.

Respondents/affected entities: All chrome finishing facilities in the U.S. will receive the questionnaire and no more than 20 facilities will be asked to conduct specific wastewater sampling.

Respondent's obligation to respond: Mandatory (Clean Water Act section 308).

Estimated number of respondents: 2,035 (total).

Frequency of response: One-time data collection.

Total estimated burden: 15,406 hours (per year). Burden is defined at 5 CFR 1320.03(b).

Total estimated cost: $2,202,613 (per year), which includes $4,805 annualized capital or operation & maintenance costs.

Changes in the estimates: This is a new data collection request.

Courtney Kerwin,
Director, Regulatory Support Division.

[FR Doc. 2023-08440 Filed 4-20-23; 8:45 am]

BILLING CODE 6560-50-P